DEPARTMENT OF HEALTH AND HUMAN SERVICES

National Institutes of Health

Office of the Director, National Institutes of Health Notice of Meeting

Pursuant to section 10(a) of the Federal Advisory Committee Act, as amended, notice is hereby given of a meeting of the National Science Advisory Board for Biosecurity.

The meeting will be held as a virtual meeting and is open to the public as indicated below. Individuals who plan to view the virtual meeting and need special assistance or other reasonable accommodations to view the meeting should notify the Contact Person listed below in advance of the meeting. The meeting will be videocast and can be accessed from the NIH Videocasting and Podcasting website (http://videocast.nih.gov/).

Name of Committee: National Science Advisory Board for Biosecurity.

Date: February 28, 2022.

Time: 12:00 p.m. to 1:00 p.m.

Agenda: The National Science Advisory Board for Biosecurity meeting will include a review of the charge to the committee and discussion of next steps for the committee.

Place: National Institutes of Health, 6705 Rockledge Drive, Suite 750, Bethesda, MD 20892 (Virtual Meeting Link is available at https://osp.od.nih.gov/biotechnology/national-science-advisory-board-for-biosecurity-nsabb/#meetings).

Contact Person: Cari Young, Office of Science Policy, National Institutes of Health, 6705 Rockledge Drive, Suite 750, Bethesda, MD 20892, 301-496-9838, SciencePolicy@od.nih.gov.

Any interested person may file written comments by forwarding the statement to the Contact Person listed on this notice at least two days prior to the meeting date. The statement should include the name, address, telephone number and when applicable, the business or professional affiliation of the interested person.

Information is also available on the NIH Office of Science Policy's web page: https://osp.od.nih.gov/biotechnology/national-science-advisory-board-for-biosecurity-nsabb/, where an agenda, link to the webcast meeting, and any additional information for the meeting will be posted when available.

This notice is being published less than 15 days prior to the meeting due to scheduling difficulties.

Dated: February 14, 2022.
Melanie J. Pantoja,
Program Analyst, Office of Federal Advisory Committee Policy.

[FR Doc. 2022-03406 Filed 2-16-22; 8:45 am]

BILLING CODE 4140-01-P